DEPARTMENT OF AGRICULTURE

Forest Service

Dakota Prairie Grasslands; North Dakota; Dakota Prairie Grasslands Land and Resource Plan Amendment and Site Specific Projects for the Elkhorn Ranchlands

AGENCY: Forest Service, USDA.

ACTION: Notice of intent to prepare an environmental impact statement.

SUMMARY: The purpose of this notice is to inform the public that the Forest Service intends to prepare an environmental impact statement for amending the Dakota Prairie Grasslands Land and Resource Management Plan (DPG Plan) pursuant to 16 U.S.C. 1604(f)(5) and 36 CFR 219.12. This includes approving certain site specific projects associated with the same lands.

The National Environmental Policy Act (NEPA), the Forest and Rangeland Renewable Resources Planning Act (RPA) and the National Forest Management Act (NFMA) are among the laws that set forth the requirements for Forest Service planning. This DPG Plan amendment will determine management direction including land-use determinations, management area prescriptions, and standards and guidelines.

The need for the DPG Plan amendment results from the recent acquisition of 5,200 acres of private land, the majority of which lie in a solid block east of the Little Missouri River in Billings County, North Dakota. Site specific project proposals relate to: (1) Restoring ecological functions and wildlife habitat, (2) improving livestock grazing opportunities, (3) enhancing heritage and recreation opportunities, and 4) promoting conservation activities.

Respondents are encouraged to review grassland planning documents and the final response to the Scientific Review Team Report for more information on woody and riparian communities' restoration, prescribed burning, grazing management issues, and drought management strategies. Documents are available at: http://www.fs.fed.us/r1/dakotaprairie/ and http://www.fs.fed.us/ngp.

The Forest Service will be soliciting comments from individuals, state and local governments, American Indians, federal agencies, and organizations on the scope of the analysis specific to this DPG Plan amendment and the site-specific projects proposed.

DATES: Comments concerning the scope of the analysis must be received within 45 days of the scoping letter. The draft environmental impact statement is expected in late May 2009 and the final environmental impact statement is expected November 2009.

ADDRESSES: Submit written comments to: Sherri Schwenke, DPG Plan Amendment Interdisciplinary Team Leader, Dakota Prairie Grasslands, 240 W. Century Avenue, Bismarck, North Dakota 58503 or by e-mail to: comments-northern-dakota-prairie@fs.fed.us. When commenting by e-mail, please be sure to list LRMP Amendment in the subject line and provide a U.S. Postal Service address so that we may add you to our mailing list.

FOR FURTHER INFORMATION CONTACT: Sherri Schwenke, DPG Plan Amendment Interdisciplinary Team Leader, Dakota Prairie Grasslands, 240 W. Century Avenue, Bismarck, North Dakota 58503.

Background Information

The USDA Forest Service manages over 190 million acres of public land in the United States of America. These public lands are managed in accordance with numerous laws enacted by Congress including the Bankhead-Jones Farm Tenant Act (BJFTA), the National Forest Management Act (NFMA), 16 U.S.C. 1604 et seq. and the Multiple-Use Sustained Yield Act (MUSYA) 16 U.S.C. 528 et seq. which directs the agency to provide for the multiple use and sustained yield of the National Forest System lands. In addition, Congress has instructed the agency to develop land and resource management plans for the public land it manages (NFMA, 16 U.S.C. 1604(a)), which includes the involvement of the American public in the planning process (NFMA, 16 U.S.C. 1604(d)). Of the public land managed by the Forest Service, approximately 4 million of those acres are National Grasslands. The National Grasslands lie primarily within the Great Plains states, with roughly 1.1 million of those acres occurring in North Dakota. The Little Missouri National Grassland in western North Dakota comprises over 1 million of those and is managed under BJFTA, NFMA and other authorities of the Forest Service. The National Grasslands in North Dakota are managed by the Forest Service as part of the Dakota Prairie Grasslands unit. The Dakota Prairie Grasslands (DPG) went through the land and resource management planning process as part of the Northern Great Plains planning process which resulted in a signed Record of Decision in July, 2002 adopting the Dakota Prairie Grasslands Land and Resource Management Plan (DPG Plan). Furthermore, a livestock grazing specific Record of Decision adopting the grazing portion of the DPG Plan was signed in September, 2006 after an independent Scientific Review Team evaluated the findings in the DPG Plan and Final Environmental Impact Statement.

The Elkhorn Ranchlands acquisition was completed in April of 2007. As this acquisition occurred after the Records of Decision for the DPG Plan, the Forest Service must undertake a plan amendment process in order to manage the newly acquired lands in accordance with law.

The proposed DPG Plan amendment process also recognizes Pub. L. 110-161, the Consolidated Appropriations Act of 2008, Division F—Department of the Interior, Environment, and related agencies appropriations act, 2008, Title IV, General Provisions, Sec. 424 which sets forth provisions for land sales to offset the acquired Elkhorn Ranch lands. Section 424(g) of the act provides that federal land grazing use of the Elkhorn Ranch shall be managed through the grazing agreement between the Medora Grazing Association and the Forest Service, and that the animal unit months (AUMs) for both federal and private lands encompassing the Elkhorn Ranch shall become part of the grazing agreement held by the Medora Grazing Association to be reallocated to its members in accordance with their rules in effect as of the date of the enactment of the act.

The Forest Service recognizes the Medora Grazing Association as the permittee for the grazing use as determined during the planning process for the Elkhorn Ranch lands which includes both this amendment to the DPG Plan and subsequent allotment management plan (AMP) development. The current Grazing Agreement with the Medora Grazing Association will be the instrument used to permit the grazing use.

SUPPLEMENTARY INFORMATION: This section provides more information regarding the purpose and need for the amendment as well as the proposed action for the management prescriptions, et al. On April 25, 2007, the USDA Forest Service completed the acquisition of the Elkhorn Ranchlands located in the Badlands of western North Dakota from the Eberts family. The acquired lands are strongly associated with the 26th President of the United States, Theodore Roosevelt. He operated a ranch on the lands in the mid-1880s. The acquisition was widely supported by over 50 conservation groups, The Friends of the Elkhorn, public officials, and private citizens.

As discussed above, with regard to the acquisition of the Elkhorn Ranch lands, Section 424 of Pub. L. 110-161 sets forth provisions for land sales to offset the acquired Elkhorn Ranch lands. This legislation also provided that “[t]he multiple uses of the acquired Elkhorn Ranch shall continue.” Pub. L. 110-161, Sec. 424(h). The Forest Service's approach to the acquisition includes maintaining traditional uses such as livestock grazing, hunting, and oil and gas activities. Further, consistent with section 424(h), the Forest Service is committed to its legislatively mandated multiple-use mission and has stated that it intends to embark on a public planning process to bring these lands under the management direction of the Dakota Prairie Grasslands Land and Resource Management Plan (DPG Plan).

In August 2007, the Forest Service initiated a resource assessment, which is the first step in determining how the agency would include these lands under DPG Plan management direction.

The assessment was conducted by a Dakota Prairie Grasslands interdisciplinary team (IDT). Open houses were held in Dickinson, Medora, and Bismarck, North Dakota, during September 2007. The results of the resource assessment and the public input during that process contributed to the purpose and need and proposed action for the DPG Plan amendment and the site-specific project proposals. Common themes included: (1) use the land for grazing but as a forage reserve or “grassbank”, restore native vegetation on the ranchlands, protect the “viewshed” from the historic ranch home site, limit impacts from development, and provide primitive recreation opportunities that involve limited structural development. The complete resource assessment can be found on the Dakota Prairie Grasslands Web site: http://www.fs.fed.us/r1/dakotaprairie/.

DPG Plan Amendment Proposal

Purpose and Need for Action

The Forest Service proposes to amend the 2002 DPG Plan to establish management direction for the 5,200-acre Elkhorn Ranchlands and to adjust the management direction assigned to the associated national grassland range allotments (18,000 acres). More specifically the purposes of the amendment are as follows:

• Determine suitability of acquired lands for grazing (36 CFR 219.12).

• Include the associated range allotments in the management area designation for the Elkhorn Ranchlands.

• Establish Grassland Plan management direction for the Elkhorn Ranchlands.

• Preserve historical values.

• Conserve ecological values.

• Restore the land and improve watershed health.

• Restore the viewshed as seen from Theodore Roosevelt's Elkhorn Ranch site to native plant communities that blend into the other undeveloped portions of the viewshed.

Proposed Action

The Forest Service proposes to amend the DPG Plan to establish management direction on 5,200 acres of National Forest System lands acquired in 2006 and 2007, and assign compatible management direction to the associated range allotments (18,000 acres). This includes applying the grasslands wide direction from Chapter 1 of the DPG Plan and allocating the lands to appropriate MA designations (DPG Plan, Chapter 3).

Site-Specific Project Proposals

Purpose and Need for Site-Specific Projects

The site-specific projects related to the recently acquired 5200 acres and the adjoining 18,000 acres are intended to:

• Preserve historical values

• Restore the land and improve watershed health

• Determine what will be done with the buildings, center pivot, and other facilities on the site

• Determine the level of recreation development and what associated facilities would be built on site

• Restore the historic viewshed

The need for the projects is based upon the condition of the lands as well as DPG Plan direction for infrastructure and recreation in the badlands setting.

Site-Specific Projects Proposed Action

Several projects are to be proposed to address the on-the-ground conditions and DPG plan direction.

Responsible Official

David M. Pieper, Grasslands Supervisor, Dakota Prairie Grasslands, 240 W. Century Avenue, Bismarck, North Dakota 58503.

Nature of Decision To Be Made

The Forest Service will decide what the management direction will be for the acquired lands and whether or not to adjust the management direction assigned to the associated national grassland range allotments, as well as whether or not to implement site-specific project proposals for the project area.

Scoping Process

A scoping letter will be issued concurrent with the publication of this notice of intent. The specifics of the proposed action(s) will be laid out in the letter and also will be posted on the Dakota Prairie Grasslands Web site for review. Comments to scoping should be received within 45 days from the date on the letter.

Comment Requested

The Forest Service will be soliciting comments from individuals; Federal, State, and local governments; American Indians, and organizations on the scope of the analysis to be included in the draft environmental impact statement for the DPG Plan amendment and from those that may be interested in or affected by the proposed action to:

• Identify potential issues.

• Identify issues to be analyzed in depth.

• Eliminate insignificant issues or those which have been covered by a relevant previous environmental analysis.

• Identify potential environmental effects of the proposed action.

• Identify and explore alternatives to the proposed action.

Comments received will be considered in preparation of the draft environmental impact statement. A range of alternatives will be considered after public comments are received and analyzed. One of those considered will be a “No Action” alternative for the site-specific projects proposed.

Early Notice of Importance of Public Participation in Subsequent Environmental Review: A draft environmental impact statement will be prepared for comment. The comment period on the draft environmental impact statement will be 90 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments submitted anonymously will be accepted and considered; however, those who submit anonymous comments will not have standing to appeal the subsequent decisions under 36 CFR parts 215 (site specific decisions) or 217 (LRMP amendment decisions).

Additionally, pursuant to 7 CR 1.27 (d), any person may request the agency to withhold a submission from the public record by showing how the FOIA (Freedom of Information Act) permits such confidentiality. Confidentiality may be granted in only very limited circumstances, such as to protect trade secrets.

The Forest Service will inform the requester of the agency's decision regarding the request for confidentiality and where the request is denied; the agency will return the submission and notify the requester that the comments may be resubmitted with or without name and address within 90 days.

Authority: 40 CFR 1501.7 and 1508.22; Forest Service Handbook 1909.15, Section 21.

Dated: October 2, 2008.
David M. Pieper,
Grasslands Supervisor.

[FR Doc. E8-23812 Filed 10-7-08; 8:45 am]

BILLING CODE 3410-11-P